DEPARTMENT OF ENERGY

Federal Energy Regulatory Commission

[Docket No. RP00-477-005]

Tennessee Gas Pipeline Company; Notice of Revised Compliance Tariff Filing

August 14, 2003.

Take notice that on August 11, 2003, Tennessee Gas Pipeline Company, (Tennessee) tendered for filing as part of its FERC Gas Tariff, Fifth Revised Volume No. 1, the tariff sheets identified at Appendix A to the filing, with an effective date of October 1, 2003.

Tennessee states that the revised tariff sheets are being filed in order to comply with the Commission's July 11, 2003 Order in the referenced proceeding, which relates to Tennessee's previous filings to comply with Order Nos. 637, 637-A, and 637-B.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the eLibrary (FERRIS) link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: August 25, 2003.

Magalie R. Salas,
Secretary.

[FR Doc. 03-21383 Filed 8-20-03; 8:45 am]

BILLING CODE 6717-01-P